ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Monday through Wednesday, September 8-10, 2014 at the times and location listed below.

DATES: The schedule of events is as follows:

Monday, September 8, 2014

10:00-Noon Ad Hoc Committee Meetings: Closed to Public

1:30-2:45 p.m. Technical Programs Committee

3:00-4:00 Ad Hoc Committee Meetings: Closed to Public

Tuesday, September 9, 2014

9:30-10:30 a.m. Ad Hoc Committee on Frontier Issues

10:30-Noon Planning and Evaluation Committee

1:30-2:00 p.m. Budget Committee

Wednesday, September 10, 2014

9:30-Noon Ad Hoc Committees: Closed to Public

1:30-3:00 p.m. Board Meeting

ADDRESSES: Meetings will be held at the Access Board Conference Room, 1331 F Street NW., Suite 800, Washington, DC 20004.

FOR FURTHER INFORMATION CONTACT: For further information regarding the meetings, please contact David Capozzi, Executive Director, (202) 272-0010 (voice); (202) 272-0054 (TTY).

SUPPLEMENTARY INFORMATION: At the Board meeting scheduled on the afternoon of Wednesday, September 10, 2014, the Access Board will consider the following agenda items:

• Approval of the draft July 9, 2014 meeting minutes (vote)

• Ad Hoc Committee Reports: Self-Service Transaction Machines; Information and Communications Technologies; Accessible Design in Education; Public Rights-of-Way and Shared Use Paths; Passenger Vessels; Frontier Issues; Transportation Vehicles; and Medical Diagnostic Equipment

• Budget Committee

• Technical Programs Committee

• Planning and Evaluation Committee

• Election Assistance Commission Report

• Executive Director's Report

• Public Comment, Open Topics

All meetings are accessible to persons with disabilities. An assistive listening system, Communication Access Realtime Translation (CART), and sign language interpreters will be available at the Board meeting and committee meetings. Persons attending Board meetings are requested to refrain from using perfume, cologne, and other fragrances for the comfort of other participants (see www.access-board.gov/the-board/policies/fragrance-free-environment for more information).

David M. Capozzi,
Executive Director.

[FR Doc. 2014-19867 Filed 8-20-14; 8:45 am]

BILLING CODE 8150-01-P